NUCLEAR REGULATORY COMMISSION

FY 2004-2009 Strategic Plan, NUREG-1614, Volume 3; Notice of Availability

AGENCY: Nuclear Regulatory Commission.

ACTION: Notice of availability.

SUMMARY: The Nuclear Regulatory Commission (NRC) is announcing the availability of NUREG-1614, Volume 3, “U.S. Nuclear Regulatory Commission, FY 2004-2009 Strategic Plan,” dated August 12, 2004.

SUPPLEMENTARY INFORMATION: The Nuclear Regulatory Commission today issued its new Strategic Plan for fiscal years 2004-2009, establishing how the agency intends to carry out its mission.

The plan includes five goals of safety, security, openness, effectiveness, and management, which together support our ability to maintain the public health and safety. It also reflects the interrelationship among safety, security, and emergency response. Each goal has strategic outcomes, which will provide a general barometer whether the goals are being achieved. There are also strategies that describe actions intended to accomplish the goals.

The agency's five goals are described below in further detail:

Safety

Ensure protection of public health and safety and the environment. The NRC's primary goal continues to be the safe use of radioactive materials to ensure the protection of public health and safety and the environment. Specific strategies are identified to ensure there are no reactor accidents or releases of radioactive materials that result in significant radiation exposures, fatalities or adverse environmental impacts.

Security

Ensure the secure use and management of radioactive materials. The goal on security has been added in response to the events of September 11, 2001. To achieve this goal, specific strategies are identified to ensure there are no instances in which licensed radioactive materials are used in a terrorist act in the United States.

Openness

Ensure openness in our regulatory process. The agency recognizes that stakeholders need to be informed about, and have an opportunity to participate in the NRC's regulatory process. The NRC views nuclear regulation as the public's business and, as such, it should be transacted openly and candidly, to the extent possible in order to maintain the public's confidence but not jeopardize national security.

Effectiveness

Ensure that NRC actions are effective, efficient, realistic, and timely. The Agency's drive to improve its performance, coupled with increasing demands on the NRC's finite resources, clearly indicates a need for the Agency to become more effective, efficient, realistic, and timely in its regulatory activities. Initiatives related to this goal are congruent with the Agency's safety and security goals, and serve to ensure that available resources are optimally directed toward the NRC's mission.

Management

Ensure excellence in Agency management to carry out the NRC's Strategic Objective. The Agency believes that management excellence is essential to support the staff in accomplishing the Agency's mission. This goal includes strategies for the management of human capital, infrastructure management, financial management, electronic government, budget and performance integration, and internal communications.

Success in achieving each goal will be gauged primarily through performance measures developed for the agency's annual performance budget and will be reported in the annual Performance and Accountability Report.

Stakeholder feedback was particularly valuable in helping the Commission develop the Strategic Plan.

NUREG-1614, Volume 3, and other publicly available documents related to this notice are available for electronic viewing on public computers in the NRC's Public Document Room (PDR), Public File Area O1F21, One White Flint North, 11555 Rockville Pike, Rockville, Maryland. The PDR's reproduction services contractor will provide copies of publicly available documents for a fee.

Publicly available documents related to this notice, including public comments received, are also available electronically through the NRC's Agencywide Documents Access and Management System (ADAMS) at http://www.nrc.gov/reading-rm/adams.html. ADAMS provides text and image files of NRC's public documents. NUREG-1614, Volume 3, is publicly available in ADAMS under Accession No. ML042230185, or on the agency's Web site at: http://www.nrc.gov/reading-rm/doc-collections/nuregs/staff/sr1614. If you do not have access to ADAMS, or if there are problems in accessing the documents located in ADAMS, contact the NRC Public Document Room (PDR) Reference staff at 1 (800) 397-4209, (301) 415-4737, or by e-mail to PDR@nrc.gov.

A free single copy of NUREG-1614, Volume 3, to the extent of availability, may be requested by writing to the Office of the Chief Information Officer, Reproduction and Distribution Services Section, U.S. Nuclear Regulatory Commission, Printing and Graphics Branch, Washington, DC 20555-0001; facsimile: (301) 415-2289; e-mail: DISTRIBUTION@nrc.gov.

FOR FURTHER INFORMATION CONTACT: George Smolik on (301) 415-0222 or William Lovell on (301) 415-6230, in the Division of Planning, Budget, and Analysis, Office of the Chief Financial Officer, U.S. Nuclear Regulatory Commission, Washington, DC 20555-0001.

Dated at Rockville, Maryland, this 12th day of August, 2004.
For the Nuclear Regulatory Commission.
Jesse L. Funches,
Chief Financial Officer.

[FR Doc. 04-18884 Filed 8-17-04; 8:45 am]

BILLING CODE 7590-01-P